STATE JUSTICE INSTITUTE

SJI Board of Directors Meeting, Notice

AGENCY: State Justice Institute.

ACTION: Notice of meeting.

SUMMARY: The SJI Board of Directors will be meeting on Monday, September 21, 2015 at 1:00 p.m. The meeting will be held at the Supreme Court of Texas in Austin, Texas. The purpose of this meeting is to consider grant applications for the 4th quarter of FY 2015, and other business. All portions of this meeting are open to the public.

ADDRESSES: Supreme Court of Texas, 201 West 14th Street, Austin, TX 78701.

FOR FURTHER INFORMATION CONTACT: Jonathan Mattiello, Executive Director, State Justice Institute, 11951 Freedom Drive, Suite 1020, Reston, VA 20190, 571-313-8843, contact@sji.gov.

Jonathan D. Mattiello,
Executive Director.

[FR Doc. 2015-22629 Filed 9-8-15; 8:45 am]

BILLING CODE P